DEPARTMENT OF DEFENSE

Department of the Air Force

[Docket ID USAF-2008-0034]

Privacy Act of 1974; System of Records

AGENCY: Department of the Air Force, DoD.

ACTION: Notice to add a system of records notice.

SUMMARY: The Department of the Air Force proposes to add a system of records notice to its inventory of records systems subject to the Privacy Act of 1974 (5 U.S.C. 552a), as amended.

DATES: This action will be effective on December 12, 2008 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Mr. Ken Brodie at (703) 696-6518.

SUPPLEMENTARY INFORMATION: The Department of the Air Force's record system notices for records systems subject to the Privacy Act of1974 (5 U.S.C. 552a), as amended, have been published in the Federal Register and are available from the address above.

The proposed system report, as required by 5 U.S.C. 522a(r) of the Privacy Act of 1974, as amended, was submitted on October 30, 2008 to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 3, 2008.
Morgan E. Frazier,
Alternate OSD Federal Register Liaison Officer, Department of Defense.

F036 AETC Y

System name:

Training Integration Management System (TIMS) Records.

System location:

Department of Air Force, 12th Operational Support Squadron, Bldg. 740, Suite 1, 501 I Street East, Randolph Air Force Base, TX 78150-4336.

Department of Air Force, 12th Operational Support Squadron, Bldg. 990, Room 105, 151 J Street East, Randolph Air Force Base, TX 78150-4336.

Department of Air Force, 14th Operational Support Squadron, Bldg. 230, Room 25, 144 Liberty Street, Columbus Air Force Base, MS 39701-4001.

Department of Air Force, 47th Operations Group, Bldg. 320, Room 1183, 417 Liberty Drive, Laughlin Air Force Base, TX 78843-5133.

Department of Air Force, 80th Operational Support Squadron, Bldg. 2320, Room C-141, 835 20th Avenue, Sheppard Air Force Base, TX 76311-2030.

Department of Air Force, 71st Operational Support Squadron, Bldg. 672, Room 145, 173 Merritt Road, Vance Air Force Base, OK 73705-5214.

Categories of individuals covered by the system:

All students and cadre involved in the flight training operations to include active duty U.S. Air Force and U.S. Navy personnel; Air National Guard and reserve personnel, Department of Defense (DoD) civilians and contractors, and foreign national military.

Categories of records in the system:

Biographical and background information including name, grade, and Social Security Number (SSN), source of commission, education including university, dates of attendance, graduation degree(s), major and date; past training unit of assignment; class number, section number, flying and academic courses completed; complete record of evaluations including grades on each phase of flight evaluations and overall flight evaluation performance in each category of training, flying hours; date graduated or eliminated to include with reasons for elimination and Training Review Board proceedings and records which document aircrew training, evaluations, performance, and accomplishments.

Authority for maintenance of the system:

10 U.S.C. 8013, Secretary of the Air Force; Air Education and Training Command Instructions; AETCI 36-2205 Formal Aircrew Training Administration and Management; AETCI 36-2220, Academic Training; AETCI 36-2223, Flying Training Student Information Management; and Executive Order 9397(SSN).

Purpose(s):

To manage all aspects of Joint Air Force and Navy primary aircraft student training. Provides scheduling of all resources-students, instructors, classrooms, classroom equipment and resource files, aircrew training (simulator) devices, aircraft, and airspace. I will maintain data and provide performance evaluation and deficiency tracking of students. In addition, it will manage syllabi and evaluates training course content. The system also monitors student performance by source of entry, education level, and minority status, maintains background information and qualifications of graduates for follow-on training to Air National Guard, Air Force and Navy Reserve, and other Air Force and Navy training units. Provides data for and documents proceedings in the event of Training Review Board actions. Maintains data and tracks the training, and qualifications of instructor pilots and other training cadre.

Routine uses of records maintained in the system including categories of users and the purpose of such uses:

In addition to those disclosures generally permitted under 5 U.S.C. 552a(b) of the Privacy Act of 1974, these records or information contained therein may specifically be disclosed outside the DoD as a routine use pursuant to 5 U.S.C. 552a(b)(3) as follows:

The DoD ‘Blanket Routine Uses’ published at the beginning of the Air Force's compilation of record system notices apply to this system.

Policies and practices for storing, retrieving, accessing, retaining, and disposing of records in the system:

Storage:

Paper records in file folders and electronic storage media.

Retrievability:

Individual's name and Social Security Number (SSN).

Safeguards:

Computer databases are located in locked servers in locked rooms in flying training classroom/laboratory buildings on Air Force and Navy installations. Backup tapes are stored in locked theft-proof and fireproof cabinets in locked rooms. All training facilities with system-accessible workstations are controlled during duty hours and secured after duty hours. Access to record, (database) data, by users (including students, training cadre, flight training managers, and system administrators) are controlled by Common Access Card (CAC) identification. Authorized access to specific data is controlled in accordance with user roles and permissions. User roles and permissions are established and assigned in accordance with individual responsibilities; i.e., student, instructor, training manager, system manager.

Retention and disposal:

Retained as active at least two years. Hardcopy records are destroyed by tearing into pieces, shredding, pulping, macerating or burning.

System manager(s) and address:

Deputy Chief of Staff Operations, Headquarters Air Education and Training Command, 1 F Street, Suite 2, Randolph Air Force Base, TX 78150-4322.

Notification procedure:

Individuals seeking to determine whether information about themselves is contained in this system should address written inquiries to the Deputy Chief of Staff Operations, Headquarters Air Education and Training Command, 1 F Street, Suite 2, Randolph Air Force Base, TX 78150-4322.

Individuals should provide their full name, Social Security Number (SSN), office or organization where currently assigned, if applicable, current address, and telephone number.

Record access procedures:

Individuals seeking access to information about themselves contained in this system of records should address written inquiries to the Deputy Chief of Staff Operations, Headquarters Air Education and Training Command, 1 F Street, Suite 2, Randolph Air Force Base, TX 78150-4322.

Individuals should provide their full name, Social Security Number (SSN), office or organization where currently assigned, if applicable, current address, and telephone number.

Contesting records procedures:

The Air Force rules for accessing records, and for contesting contents and appealing initial agency determinations are published in Air Force Instruction 33-332; 32 CFR part 806b; or may be obtained from the system manager.

Record source categories:

Individual and other DoD systems.

Exemptions claimed for the system:

None.

[FR Doc. E8-26767 Filed 11-10-08; 8:45 am]

BILLING CODE 5001-06-P